DEPARTMENT OF LABOR

Employment and Training Administration

[TA-W-56,908B]

Stoneridge Control Devices; Switch Products Division, Heat/Cool Switch Production; Canton, MA; Notice of Termination of Investigation

Pursuant to Section 221 of the Trade Act of 1974, as amended, an investigation was initiated on April 7, 2005 in response to a petition filed by a company official on behalf of workers at Stoneridge Control Devices, Switch Products Division, Heat/Cool Switch Production, Canton, Massachusetts.

The petitioner has requested that the petition be withdrawn. Consequently, the investigation has been terminated.

Signed at Washington, DC this 9th day of May, 2005.
Linda G. Poole,
Certifying Officer, Division of Trade Adjustment Assistance.

[FR Doc. E5-2516 Filed 5-18-05; 8:45 am]

BILLING CODE 4510-30-P